DEPARTMENT OF AGRICULTURE

Forest Service

Fishlake National Forest, Utah, Fishlake OHV Route Designation Project

AGENCY: Forest Service, USDA.

ACTION: Notice of intent to prepare an environmental impact statement.

SUMMARY: The Forest Supervisor of the Fishlake National Forest gives notice of the intent to prepare an environmental impact statement (EIS) to designate a system of routes and managed use areas that are open to motorized use. Creating a new motorized travel plan is necessary to improve management and enforcement of off-highway vehicle travel policy on the Forest. Existing travel rules that were established in the 1986 Forest Plan did not anticipate the rapid increase in off-highway vehicle (OHV) use or the types of user conflicts and resource impacts that have occurred in recent years. This notice describes the specific elements to be included in a new travel plan, decisions to be made, estimated dates for filing the EIS, information concerning public participation, and the names and address of the agency officials who can provide information.

DATES: Comments concerning the scope of the analysis must be received by July 30, 2004. The draft environmental impact statement is scheduled for completion by the fall of 2004 and the final environmental impact statement is expected before spring of 2005.

ADDRESSES: Send written comments or requests for further information to: Dale Deiter, OHV Team Leader, Fishlake National Forest, 115 East 900 North, Richfield, UT 84701. Phone: 435-896-1007. Electronic correspondence may be sent to comments-intermtn-fishlake@fs.fed.us. Please include “Fishlake OHV Route Designation Project” on the subject line.

FOR FURTHER INFORMATION CONTACT: Davida Carnahan, Public Affairs Officer, Fishlake National Forest, 115 East 900 North, Richfield, UT 84701. Phone: 435-896-1070.

For technical information contact: Max Reid, Public Services Staff, Fishlake National Forest, 115 East 900 North, Richfield, UT 84701. Phone: 435-896-1075.

SUPPLEMENTARY INFORMATION:

Purpose and Need for Action

The Fishlake National Forest Supervisor has determined that there is a need to improve management and enforcement of off-highway vehicle travel policy on the Forest. This need includes three fundamental management considerations.

1.The need to better accommodate current motorized use and to address future growth. There has been rapid growth in OHV use that was not anticipated when the 1986 Fishlake Forest Plan was written. Use on the managed Paiute and Great Western Trail systems alone has increased roughly 172 percent between 1995 and 2003. Similarly, OHV registrations in Utah have increased 142 percent from 1998 to 2003. Most of these vehicles in turn are used on public lands. The Forest travel plan map currently allows unrestricted motorized access seasonally or yearlong on 62 percent of the Fishlake National Forest System lands. This is no longer a desirable or sustainable management option given the existing number of users and expected growth.

2. The need to have a travel plan that is simple to understand and implement, and consistent with other Forests and land management agencies.

The model used for the existing travel plan relies on “open unless signed or mapped closed” designations that are complicated to interpret and as a result are difficult to enforce. The lack of simple and consistent travel policies among other Forests and land management agencies is confusing for the public and inhibits cooperative law enforcement.

3. The need to reduce the potential for OHV conflicts and impacts to other resource uses and values.

Some OHV activity is occurring in areas and on routes where motorized use is prohibited. In some open areas, networks of user-developed routes continue to appear that are creating user conflicts and resource impacts. Problem areas are not uniformly distributed throughout the Forest. Some of this use has occurred in riparian areas and on highly erodible slopes. In other areas use is very light and little or no effects from motorized, wheeled cross-country travel are evident. Types of impacts occurring in some cases include the introduction and spread of noxious weeds, trampling and compaction of soils and rare plants, rutting of wetlands, disturbance and displacement of wildlife and livestock, damage to cultural resources, and impacts to water quality, riparian and fisheries habitats. The major motorized impacts are occurring during hunting season, from spring antler shed gathering, in play areas next to communities, and around popular dispersed camping areas.

The Forest Service and public have a need for greater certainty about which roads and trails are part of the managed system of motorized and non-motorized routes. Greater certainty addresses the needs above by providing:

• Improved ability to prioritize and budget for road and trail maintenance, and to evaluate public safety hazards,

• Focus on how and where to sustain and improve motorized and non-motorized recreation opportunities on the Fishlake National Forest,

• Improved ability to coordinate public access across different land ownerships,

• Improved public understanding and adherence to travel rules, thus reducing the development of user-created routes,

• Improved ability to reduce motorized route and use impacts to other resources values and Forest users.

Proposed Action

Additional details and description of the proposed action can be found on the Internet at http://www.fs.fed.us/r4/fishlake/projects/obv.shtml. The proposed action has been developed by tentatively designating a motorized travel plan that moves towards desired conditions identified in the pre-project assessment. The proposed travel plan was compared to the existing travel plan to identify changes from current conditions. The proposed action only includes routes or areas where a change in current use or route classification is needed to create the desired travel plan. The proposed action will specify the miles of unclassified routes to be added, and the miles of classified routes to be removed from the Forest's existing motorized system. Travel by OHVs would only be allowed on routes and areas designated as open. Construction of the final proposed action is still underway, but it is anticipated that the route system will include over 2,500 miles of roads and trails on National Forest System lands. In addition, seasonal restrictions would be added or removed on some routes. The seasonal closure period would be lengthened from March 31 to April 15 with a start date of January 1. The Paiute and Great Western Trail systems would be retained. Motorized cross-country travel would be prohibited except as specified for direct access to and from dispersed camping, firewood gathering, emergency fire suppression, search and rescue, law enforcement, military operations, and Forest Service administrative use. Limited changes in area restrictions for over snow travel by snowmobiles are proposed to protect critical mule deer winter ranges and Research Natural Areas. The proposed alternative designates 780 acres in three managed use areas west of Richfield, UT, and 193 acres on the Velvet Ridges near Torrey, UT where motorized cross-country travel would be permitted. None of the proposed exceptions where cross-country travel is permitted authorize resource damage by users. The proposed action also includes an implementation plan that addresses items such as: Managing the designated system, eliminating unauthorized growth of the route network, signing and implementing routes and area designations, enforcing the new motorized travel plan, involving and educating the public in access and travel management, and planning future travel management decisions.

Possible Alternatives

All alternatives studied in detail must fall within the scope of the purpose and need for action and will generally tier to and comply with the Fishlake forest plan. The added restrictions on motorized cross-country travel are the only proposed amendments to the forest plan at this time.

Law requires a “no-action alternative”. The No Action alternative would maintain current allowances and restrictions for OHV use and motorized cross-country travel described in the current Fishlake forest plan and travel plan.

The Forest is expecting that the public input will generate either thematic concerns or route-specific issues that may be addressed by modifying the proposed action to create a new alternative or alternatives.

Responsible Official

Mary Erickson, Forest Supervisor, Fishlake National Forest, 115 East 900 North, Richfield, UT 84701.

Nature of Decision To Be Made

The decisions to be made in this project are:

1. Identifying rules, exceptions, and strategies for closing the Forest to motorized cross-country travel.

2. Designating the type and season of motorized use to be allowed on classified routes.

3. Designating or eliminating unclassified travelways.

• Legally, the Forest Service cannot recognize nor maintain unclassified routes. Therefore, it is proposed to either designate these travelways or eliminate them. Currently there are about 700 miles of inventoried or known roads and trails that are not officially part of the Forest travel system. These routes may have been constructed for a specific short-time purpose and were never properly closed, or some may also be the result of traffic going off-route repeatly forming an illegal road or trail. Unclassified routes mapped before completion of the route designation project may be evaluated directly in the EIS. Disposition of routes that are added to the inventory after completion of the EIS will be assessed using a screening process that will be disclosed in the EIS. The analysis for this project will provide a one-time assessment of unclassified routes that will result in either the inclusion or elimination of a given route from the Forest travel network. After the decision date, any newly created travelways will by default be designated for elimination unless a separate analysis and decision are conducted under the National Environmental Policy Act (NEPA). Future road and trail proposals for new construction will undergo disclosure and analysis in accordance with NEPA.

Scoping Process

The first formal opportunity to comment on the Fishlake OHV Route Designation Project is during the scoping process (40 CFR 1501.7), which begins with the issuance of this Notice of Intent. All comments, including the names, addresses and when provided, will be placed in the record and are available for public inspection. Mail comments to: Dale Deiter, Fishlake National Forest, 115 East 900 North, Richfield, UT 84701.

The Forest Service requests comments on the nature and scope of the environmental, social, and economic issues, and possible alternatives related to the development of the new travel management plan and EIS.

A series of public opportunities are scheduled to explain the proposed travel plan and route designation process to provide an opportunity for public input. Seven scoping meetings are planned.

June 15, 2004—Richfield, UT at Snow College Conference Center from 6:30 p.m. to 9:30 p.m.

June 16, 2004—Fillmore, UT at Millard High School Lunchroom from 7 p.m. to 9 p.m.

June 17, 2004—Loa, UT at the Loa Civic Center from 7 p.m. to 9 p.m.

June 22, 2004—Beaver, UT at the 10th Street Center from 7 p.m. to 9 p.m.

June 24, 2004—Junction, UT at the Piute Event Center 7 p.m. to 9 p.m.

June 29, 2004—Salina, UT at the old Legion Hall from 7 p.m. to 9 p.m.

A meeting in Salt Lake City has tentatively been scheduled for June 23, 2004 at the Salt Lake City Public Library 7 p.m. to 9 p.m.

Written comments will be accepted at these meetings. The Forest Service will work with tribal governments to address issues that would significantly or uniquely affect them.

Preliminary Issues

Important goals for the project are to create a motorized travel plan that is simple to understand, consistent with other public land management agencies in Utah, and is enforceable. Protections for critical mule deer winter range and Threatened and Endangered plant habitats, roadless considerations, and the need to maintain motorized and nonmotorized recreational opportunities have also directed the development and design of the proposed action.

Comment Requested

This notice of intent initiates the scoping process which guides the development of the environmental impact statement. The Fishlake National Forest has received and assessed numerous comments from the 2001 OHV Events Environmental Assessment that was completed to permit the Rocky Mountain and Fillmore ATV jamborees. The Forest has also received substantial input at public meetings held for the Forest Plan revision effort and from Topical Working Groups (TwiGs) that have addressed suitability issues related to OHVs, dispersed recreation, and roadless. Through these efforts the Forest has an understanding of the broad range of perspectives on the resource issues and social values attributed to motorized recreation on the Fishlake National Forest. Consequently, site-specific comments are the most important types of information needed for this EIS. Comments about existing or proposed conditions on individual routes, desired motorized or non-motorized recreation opportunities, uses and impacts, and travel plan rules and designations are being sought. Public knowledge about existing routes that are not shown on the Forest inventory is also requested. Because the Fishlake OHV Route Designation EIS is a stand-alone document, only public comment letters received directly to this project will be formally addressed in an appendix in the FEIS.

Early Notice of Importance of Public Participation in Subsequent Environmental Review

A draft environmental impact statement will be prepared for comment. The comment period on the draft environmental impact statement will be 45 days from the date the Environmental Protection Agency publishes the notice of availability in the Federal Register.

The Forest Service believes, at this early stage, it is important to give reviewers notice of several court rulings related to public participation in the environmental review process. First reviewers of draft environmental impact statements must structure their participation in the environmental review of the proposal so that it is meaningful and alerts an agency to the reviewer's position and contentions. Vermont Yankee Nuclear Power Corp. v. NRDC, 435 U.S. 519, 553 (1978). Also, environmental objections that could be raised at the draft environmental impact statement stage but that are not raised until after completion of the final environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the July 30, 2004 comment period and during the comment period following the draft EIS so that substantive comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points.

Comments received, including the names and addresses of those who comment, will be considered part of the public record on this proposal and will be available for public inspection.

(Authority: 40 CFR 1501.7 and 1508.22; Forest Service Handbook 1909.15, Section 21)

Dated: June 1, 2004.
Mary C. Erickson,
Fishlake Forest Supervisor.

[FR Doc. 04-12780 Filed 6-4-04; 8:45 am]

BILLING CODE 3410-11-M